DEPARTMENT OF JUSTICE

National Institute of Corrections

[4410-36]

Notice of Federal Advisory Committee Charter Renewal; Name of the Committee: NIC Advisory Board

AGENCY: National Institute of Corrections (NIC).

ACTION: Notice of Federal Advisory Committee Charter renewal.

SUMMARY: In accordance with the Federal Advisory Committee Act, the purpose of this notice is to announce that the National Institute of Corrections has renewed the charter for the NIC Advisory Board for a two-year period through September 12, 2027. The NIC Advisory Board is a federal advisory committee enacted pursuant to the authority provided at 5 U.S.C. 1001-1014, the Federal Advisory Committee Act (FACA), and 41 CFR 102-3.50(a).

DATES: Renewed through September 12, 2027.

ADDRESSES: National Institute of Corrections, 320 1st Street NW, Washington, DC 20534.

To Obtain a Copy of the Charter: A complete copy of the Charter is available from the NIC in electronic format. An electronic copy can be downloaded in PDF format on the NIC website, https://nicic.gov. To obtain a paper copy of the Charter, please mail your request to the National Institute of Corrections, 320 1st Street NW, Washington, DC 20534.

FOR FURTHER INFORMATION CONTACT: Leslie LeMaster, Designated Federal Officer, Telephone: (202) 305-5773, Email: llemaster@bop.gov.

SUPPLEMENTARY INFORMATION: In general, the NIC provides training, technical assistance, information services, and policy/program development assistance to Federal, state, and local corrections agencies; through cooperative agreements, awards funds to support program initiatives; and provides leadership to influence correctional policies, practices, and operations nationwide in areas of emerging interest and concern to correctional executives and practitioners as well as public policymakers. The NIC Advisory Board is a Federal advisory committee created by statute whose mandate is to advise the NIC on long-range plans, advise on program development, and recommend guidance to assist the NIC's efforts in these areas. The Advisory Board will also advise the Attorney General about the appointment of the Director of the NIC. In accordance with the Federal Advisory Committee Act, Public Law 92-463, as amended, this notice advises interested persons of the renewal of this Charter.

Leslie LeMaster,
Designated Federal Officer, National Institute of Corrections.

[FR Doc. 2025-17959 Filed 9-16-25; 8:45 am]

BILLING CODE 4410-36-P